DEPARTMENT OF HEALTH AND HUMAN SERVICES

National Institutes of Health

National Institute on Aging; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Institute on Aging Special Emphasis Panel: Immunobiology of Aging.

Date: March 1-2, 2000.

Time: 7 pm to 5 pm.

Agenda: To review and evaluate grant applications.

Place: Empress Hotel, 7766 Fay Avenue, La Jolla, CA 92037.

Contact Person: James P. Harwood, Deputy Chief, Scientific Review Office, The Bethesda Gateway Building, 7201 Wisconsin Avenue/Suite 2C212, Bethesda, MD 20892; (301) 496-9666.

This notice is being published less than 15 days prior to the meeting due to the timing limitations imposed by the review and funding cycle.

Name of Committee: National Institute on Aging Special Emphasis Panel: Review of Grant Applications.

Date: March 2, 2000.

Time: 9 am to 11 am.

Agenda: To review and evaluate grant applications.

Place: 7201 Wisconsin Avenue, Gateway Building Rm 2C212, Bethesda, MD 20892 (Telephone Conference Call).

Contact Person: Ramesh Vemuri, Office of Scientific Review, National Institute on Aging, The Bethesda Gateway Building, 7201 Wisconsin Avenue, Suite 2C212, Bethesda, MD 20892; (301) 496-9666.

This notice is being published less than 15 days prior to the meeting due to the timing limitations imposed by the review and funding cycle.

Name of Committee: National Institute on Aging Special Emphasis Panel: To Review a Program Project Grant Application.

Date: March 7-8, 2000.

Time: 7 pm to 4 pm.

Agenda: To review and evaluate grant applications.

Place: Holiday Inn Columbia East, 1612 North Providence Road, Columbia, MO 65202.

Contact Person: Arthur Schaerdel, Scientific Review Administrator, The Bethesda Gateway Building, 7201 Wisconsin Avenue/Suite 2C212, Bethesda, MD 20892; (301) 496-9666.

This notice is being published less than 15 days prior to the meeting due to the timing limitations imposed by the review and funding cycle.

Name of Committee: National Institute on Aging Special Emphasis Panel: Review of Grant Application.

Date: March 10, 2000.

Time: 7:30 am to 4 pm.

Agenda: To review and evaluate grant applications.

Place: Holiday Inn, Lawrence Center, 200 McDonald Drive, Lawrence, KS 66044.

Contact Person: Ramesh Vemuri, Office of Scientific Review, National Institute on Aging, the Bethesda Gateway Building, 7201 Wisconsin Avenue, Suite 2C212, Bethesda, MD 20892; (301) 496-9666.

This notice is being published less than 15 days prior to the meeting due to the timing limitations imposed by the review and funding cycle.

Name of Committee: National Institute on Aging Special Emphasis Panel: To review R03 grant applications.

Date: March 14-15, 2000.

Time: 2 pm to 12 pm.

Agenda: To review and evaluate grant applications.

Place: Holiday Inn—Gaithersburg, 2 Montgomery Village Avenue, Gaithersburg, MD 20879.

Contact Person: Jeffrey M. Chernak, The Bethesda Gateway Building, 7201 Wisconsin Avenue/Suite 2C212; (301) 496-9666.

Name of Committee: National Institute on Aging Special Emphasis Panel, Review of Program Project Grant.

Date: April 6-7, 2000,

Time: 7 pm to 5 pm.

Agenda: To review and evaluate grant applications.

Place: Holiday Inn, Montgomery Village Ave, Gaithersburg, MD 20879.

Contact Person: Paul Lenz, The Bethesda Gateway Building, 7201 Wisconsin Avenue/Suite 2C212, Bethesda, MD 20892; (301) 496-9666.

(Catalogue of Federal domestic Asistance Program Nos. 93.866, Aging Research, National Institutes of Health, HHS)

Dated: February 23, 2000.
LaVerne Y. Stringfield,
Director, Office of Federal Advisory Committee Policy.

[FR Doc. 00-4949 Filed 3-1-00; 8:45 am]

BILLING CODE 4140-01-M